DEPARTMENT OF TRANSPORTATION

Federal Aviation Administration

14 CFR Part 39

[Docket No. FAA-2016-6983; Directorate Identifier 2016-CE-012-AD; Amendment 39-18618; AD 2016-17-05]

RIN 2120-AA64

Airworthiness Directives; RUAG Aerospace Services GmbH Airplanes

AGENCY: Federal Aviation Administration (FAA), Department of Transportation (DOT).

ACTION: Final rule.

SUMMARY: We are superseding Airworthiness Directive (AD) 2009-13-04 for RUAG Aerospace Services GmbH Models 228-100, 228-101, 228-200, 228-201, 228-202, and 228-212 airplanes. This AD results from mandatory continuing airworthiness information (MCAI) issued by an aviation authority of another country to identify and correct an unsafe condition on an aviation product. The MCAI describes the unsafe condition as excessive wear on the guide pin of the power lever or condition lever, which could cause functional loss of the flight idle stop. We are issuing this AD to require actions to address the unsafe condition on these products.

DATES: This AD is effective September 30, 2016.

The Director of the Federal Register approved the incorporation by reference of a certain publication listed in the AD as of September 30, 2016.

ADDRESSES: You may examine the AD docket on the Internet at http://www.regulations.gov by searching for and locating Docket No. FAA-2016-6983; or in person at the Docket Management Facility, U.S. Department of Transportation, Docket Operations, M-30, West Building Ground Floor, Room W12-140, 1200 New Jersey Avenue SE., Washington, DC 20590.

For service information identified in this AD, contact RUAG Aerospace Services GmbH, Dornier 228 Customer Support, P.O. Box 1253, 82231 Wessling, Federal Republic of Germany, telephone: +49 (0) 8153-30-2280; fax: +49 (0) 8153-30-3030; email: custsupport.dornier228@ruag.com; Internet: http://www.ruag.com/. You may review copies of the referenced service information at the FAA, Small Airplane Directorate, 901 Locust, Kansas City, Missouri 64106. For information on the availability of this material at the FAA, call (816) 329-4148. It is also available on the Internet at http://www.regulations.gov by searching for Docket No. FAA-2016-6983.

FOR FURTHER INFORMATION CONTACT: Karl Schletzbaum, Aerospace Engineer, FAA, Small Airplane Directorate, 901 Locust, Room 301, Kansas City, Missouri 64106; telephone: (816) 329-4123; fax: (816) 329-4090; email: karl.schletzbaum@faa.gov.

SUPPLEMENTARY INFORMATION:

Discussion

We issued a notice of proposed rulemaking (NPRM) to amend 14 CFR part 39 by adding an AD that would apply to RUAG Aerospace Services GmbH Models 228-100, 228-101, 228-200, 228-201, 228-202, and 228-212 airplanes. That NPRM was published in the Federal Register on June 1, 2016 (81 FR 34927), and proposed to supersede AD 2009-13-04, Amendment 39-15943 (74 FR 29116; June 19, 2009) (“AD 2009-13-04”).

The NPRM proposed to correct an unsafe condition for the specified products and was based on mandatory continuing airworthiness information (MCAI) originated by an aviation authority of another country. The MCAI (EASA AD No.: 2009-0031R1) states that:

Excessive wear on a guide pin of a power lever was detected during inspections. The failure of a power lever or condition lever guide pin could cause functional loss of the flight idle stop.

This condition, if not corrected, could lead to inadvertent activation of the beta mode in flight, possibly resulting in loss of control of the aeroplane.

Prompted by this finding, RUAG issued Alert Service Bulletin (ASB) ASB-228-279 to provide inspection instructions. Consequently, EASA issued AD 2009-0031 to require repetitive detailed inspections of the guide pins of the power levers and condition levers, and replacement of any pin that exceeds the allowable wear-limits.

Since that AD was issued, further analysis has determined that the inspection interval, in case of no pin replacement, can be extended and RUAG published Revision 1 of ASB-228-279, which also included landings (expressed in this AD as flight cycles—FC) as a determining factor.

For the reason described above, this AD revises EASA AD 2009-0031, amending the compliance times without changing the technical requirements, and also introducing some editorial changes for standardization.

EASA revised the MCAI (EASA AD No.: 2009-0031R2) to incorporate changes to the applicability. The FAA had already incorporated these changes in the NPRM so no changes to the final rule are necessary.

The MCAI can be found in the AD docket on the Internet at http://www.regulations.gov by searching for and locating Docket No. FAA-2016-6983.

Comments

We gave the public the opportunity to participate in developing this AD. We received no comments on the NPRM (74 FR 29116; June 19, 2009) or on the determination of the cost to the public.

Conclusion

We reviewed the relevant data and determined that air safety and the public interest require adopting the AD as proposed except for minor editorial changes. We have determined that these minor changes:

• Are consistent with the intent that was proposed in the NPRM (74 FR 29116; June 19, 2009) for correcting the unsafe condition; and

• Do not add any additional burden upon the public than was already proposed in the NPRM (74 FR 29116; June 19, 2009).

Related Service Information Under 1 CFR Part 51

We reviewed the RUAG Aerospace Services GmbH Dornier 228 Alert Service Bulletin No. ASB-228-279, revision 1, dated September 22, 2015. The service information describes procedures for repetitive inspections of the guide pins of the power and condition levers and replacement of those pins if necessary. This service information is reasonably available because the interested parties have access to it through their normal course of business or by the means identified in the ADDRESSES section of the AD.

Costs of Compliance

We estimate that this AD will affect 18 products of U.S. registry. We also estimate that it would take about 20 work-hours per product to comply with the basic requirements of this AD. The average labor rate is $85 per work-hour. Required parts would cost about $10 per product.

Based on these figures, we estimate the cost of the AD on U.S. operators to be $30,780, or $1,710 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2016-6983; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15943 (74 FR 29116; June 19, 2009), and adding the following new AD:

2016-17-05 RUAG Aerospace Services GmbH: Amendment 39-18618; Docket No. FAA-2016-6983; Directorate Identifier 2016-CE-012-AD.

(a) Effective Date

This airworthiness directive (AD) becomes effective September 30, 2016.

(b) Affected ADs

This AD supersedes AD 2009-13-04, Amendment 39-15943 (74 FR 29116; June 19, 2009) (“AD 2009-13-04”).

(c) Applicability

This AD applies to RUAG Aerospace Services GmbH Models 228-100, 228-101, 228-200, 228-201, 228-202, and 228-212 airplanes, all serial numbers, certificated in any category.

(d) Subject

Air Transport Association of America (ATA) Code 76: Engine Controls.

(e) Reason

This AD results from mandatory continuing airworthiness information (MCAI) originated by an aviation authority of another country to identify and correct an unsafe condition on an aviation product. The MCAI describes the unsafe condition as excessive wear on the guide pin of the power lever or condition lever, which could cause functional loss of the flight idle stop. We are issuing this proposed AD to amend the compliance times of the guide pin inspections.

(f) Actions and Compliance

Unless already done, do the following actions in paragraphs (f)(1) through (4) of this AD based on a compliance time of hours time-in-service (TIS) or flight cycles, whichever occurs first. If the flight cycles or hours TIS of the throttle box assembly is unknown, use the hours TIS of the airplane to determine the compliance time for the inspection.

(1) For throttle box assemblies with less than 9,600 hours TIS or 9,600 flight cycles since installed: Inspect the guide pins of the power and condition levers for excessive wear following the Accomplishment Instructions in paragraph 2 of RUAG Aerospace Services GmbH Dornier 228 Alert Service Bulletin No. ASB-228-279, revision 1, dated September 22, 2015, at the following times:

(i) Initially, unless already done within the last 1,200 hours TIS or 1,200 flight cycles as of July 24, 2009 (the effective date retained from AD 2009-13-04), before or upon accumulating 9,600 hours TIS or 9,600 flight cycles, or within the next 100 hours TIS or 100 flight cycles after July 24, 2009 (the effective date retained from AD 2009-13-04), whichever occurs later, inspect the guide pins of the power and condition levers for excessive wear; and

(ii) Repetitively thereafter within 4,800 hours TIS or 4,800 flight cycles since any previous inspection in which the power and condition levers guide pins were not replaced or within 9,600 hours TIS or 9,600 flight cycles, whichever occurs first, since the previous inspection in which the power and condition levers guide pins were replaced.

(2) For throttle box assemblies with 9,600 hours TIS or more or 9,600 flight cycles or more but less than 13,200 hours TIS or 13,200 flight cycles since installed: Inspect the guide pins of the power and condition levers for excessive wear within the next 1,200 hours TIS or 1,200 flight cycles after July 24, 2009 (the effective date retained from AD 2009-13-04) following the Accomplishment Instructions in paragraph 2 of RUAG Aerospace Services GmbH Dornier 228 Alert Service Bulletin No. ASB-228-279, revision 1, dated September 22, 2015; and

(i) Repetitively inspect the guide pins of the power and condition levers for excessive wear thereafter within 4,800 hours TIS or 4,800 flight cycles since any previous inspection in which the power and condition levers guide pins were not replaced; or

(ii) Repetitively inspect the guide pins of the power and condition levers for excessive wear within 9,600 hours TIS or 9,600 flight cycles since the previous inspection in which the power and condition levers guide pins were replaced.

(3) For throttle box assemblies with 13,200 hours TIS or more or 13,200 flight cycles or more since installed: Within 100 hours TIS or 100 flight cycles after July 24, 2009 (the effective date retained from AD 2009-13-04) inspect the guide pins of the power and condition levers for excessive wear following the Accomplishment Instructions in paragraph 2 of RUAG Aerospace Services GmbH Dornier 228 Alert Service Bulletin No. ASB-228-279, revision 1, dated September 22, 2015, at the following times:

(i) Initially within the next 100 hours TIS or 100 flight cycles after July 24, 2009 (the effective date retained from AD 2009-13-04); and

(ii) Repetitively thereafter within 4,800 hours TIS or 4,800 flight cycles since any previous inspection in which the power and condition levers guide pins were not replaced or within 9,600 hours TIS or 9,600 flight cycles since the previous inspection in which the power and condition levers guide pins were replaced.

(4) For all throttle box assemblies: Before further flight after any inspection required in paragraph (f)(1), (2), or (3) of this AD, replace any guide pin that exceeds the acceptable wear-limits as defined in paragraph 4.1 of RUAG Aerospace Services GmbH Dornier 228 Alert Service Bulletin No. ASB-228-279, revision 1, dated September 22, 2015.

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4123; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2009-0031R1, dated March 29, 2016, and EASA AD No.: 2009-0031R2, dated June 28, 2016, for related information. The MCAI can be found in the AD docket on the Internet at http://www.regulations.gov by searching for and locating Docket No. FAA-2016-6983.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) RUAG Aerospace Services GmbH Dornier 228 Alert Service Bulletin No. ASB-228-279, revision 1, dated September 22, 2015.

(ii) Reserved.

(3) For RUAG Aerospace Services GmbH service information identified in this AD, contact RUAG Aerospace Services GmbH, Dornier 228 Customer Support, P.O. Box 1253, 82231 Wessling, Federal Republic of Germany, telephone: +49 (0) 8153-30-2280; fax: +49 (0) 8153-30-3030; email: custsupport.dornier228@ruag.com; Internet: http://www.ruag.com/.

(4) You may view this service information at FAA, Small Airplane Directorate, 901 Locust, Kansas City, Missouri 64106. For information on the availability of this material at the FAA, call (816) 329-4148. In addition, you can access this service information on the Internet at http://www.regulations.gov by searching for and locating Docket No. FAA-2016-6983.

(5) You may view this service information that is incorporated by reference at the National Archives and Records Administration (NARA). For information on the availability of this material at NARA, call 202-741-6030, or go to: http://www.archives.gov/federal-register/cfr/ibr-locations.html.

Issued in Kansas City, Missouri, on August 17, 2016.
Pat Mullen,
Acting Manager, Small Airplane Directorate, Aircraft Certification Service.

[FR Doc. 2016-20072 Filed 8-25-16; 8:45 am]

BILLING CODE 4910-13-P